DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

A Novel Treatment for Malarial Infections

Description of Invention: The inventions described herein are antimalarial small molecule inhibitors of the plasmodial surface anion channel (PSAC), an essential nutrient acquisition ion channel expressed on human erythrocytes infected with malaria parasites. These inhibitors were discovered by high-throughput screening of chemical libraries and analysis of their ability to kill malaria parasites in culture. Two separate classes of inhibitors were found to work synergistically in combination against PSAC and killed malaria cultures at markedly lower concentrations than separately. These inhibitors have high affinity and specificity for PSAC and have acceptable cytotoxicity profiles. Preliminary in vivo testing of these compounds in a mouse malaria model is currently ongoing.

Applications: Treatment of malarial infections.

Advantages: Novel drug treatment for malarial infections; Synergistic effect of these compounds on PSAC.

Development Status: In vitro and in vivo data can be provided upon request.

Market: Treatment of malarial infection.

Inventor: Sanjay A. Desai (NIAID)

Publications

1. M Kang, G Lisk, S Hollingworth, SM Baylor, SA Desai. Malaria parasites are rapidly killed by dantrolene derivatives specific for the plasmodial surface anion channel. Mol. Pharmacol. 2005 Jul;68(1):34-40.

2. SA Desai, SM Bezrukov, J Zimmerberg. A voltage-dependent channel involved in nutrient uptake by red blood cells infected with the malaria parasite. Nature. 2000 Aug 31;406(6799):1001-1005.

Patent Status: International Patent Application No. PCT/US09/50637 (HHS Reference No. E-202-2008/0-PCT-02) filed 15 Jul 2009.

Licensing Status: Available for licensing.

Licensing Contact: Kevin W. Chang; 301-435-5018; changke@mail.nih.gov.

Collaborative Research Opportunity: The NIAID Office of Technology Development is seeking statements of capability or interest from parties interested in collaborative research to further develop, evaluate, or commercialize antimalarial drugs that target PSAC or other parasite-specific transporters. Please contact Dana Hsu at 301-496-2644 for more information.

Optimized Expression of IL-12 Cytokine Family

Description of Invention: The IL-12 family of cytokines (IL-12, IL-23, and IL-27) has an important role in inflammation and autoimmune diseases. IL-12 is produced by macrophages and dendritic cells in response to certain bacterial and parasitic infections and is a powerful inducer of IFN-gamma production. IL-23 is proposed to stimulate a subset of T cells to produce IL-17, which in turn induce the production of proinflammatory cytokines that lead to a protective response during infection. IL-27 appears to have duel functions as an initiator of TH1-type (cellular immunity) immune responses and as an attenuator of immune/inflammatory responses.

The present inventions provide methods for improved expression of multimeric proteins by engineering different ratios of the subunit expression units in a cell or upon expression from a multi-promoter plasmid having different strength promoters. The inventors have improved the levels and efficiency of expression of the IL-12 family of cytokines, which includes IL-12, IL-23, and IL-27, by adjusting the transcription and translation of the alpha and beta subunits that comprise the heterodimeric proteins. Optimal ratios of expression for the two (2) subunits were determined for IL-12, IL-23, and IL-27.

Applications: Tumor treatment; Anti-viral therapy; Anti-inflammatory therapy.

Advantages: Increased expression and stability of in vitro expressed IL-12, IL-23 and IL-27 cytokines.

Development Status: In vitro data and data in animal models can be provided upon request.

Market: Infectious Diseases; Cancer; Inflammatory Diseases.

Inventors: George N. Pavlakis and Barbara K. Felber (NCI).

Patent Status: International PCT Patent Application No. PCT/US09/043481 filed 11 May 2009 (HHS Reference No. E-192-2008/1-PCT-02).

Licensing Status: Available for licensing.

Licensing Contact: Kevin W. Chang, Ph.D.; 301-435-5018; changke@mail.nih.gov.

Collaborative Research Opportunity: The Center for Cancer Research, Human Retrovirus Section, is seeking statements of capability or interest from parties interested in collaborative research to further develop, evaluate, or commercialize delivery of cytokines of the IL-12 family in cancer and other indications. Please contact John D. Hewes, Ph.D. at 301-435-3121 or hewesj@mail.nih.gov for more information.

Dated: November 9, 2009.
Richard U. Rodriguez,
Director, Division of Technology Development and Transfer, Office of Technology Transfer, National Institutes of Health.

[FR Doc. E9-27633 Filed 11-17-09; 8:45 am]

BILLING CODE 4140-01-P